DEPARTMENT OF VETERANS AFFAIRS

[OMB Control No. 2900-New (Pay Now Enter Info Page)]

Agency Information Collection Activities Under OMB Review

AGENCY: Office of Management, Department of Veterans Affairs.

ACTION: Notice.

SUMMARY: In compliance with the Paperwork Reduction Act (PRA) of 1995 (44 U.S.C., 3501 et seq.), this notice announces that the Office of Management (OM), Department of Veterans Affairs, has submitted the collection of information abstracted below to the Office of Management and Budget (OMB) for review and comment. The PRA submission describes the nature of the information collection and its expected cost and burden; it includes the actual data collection instrument.

DATES: Comments must be submitted on or before June 2, 2005.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-New (Pay Now Enter Info Page).”

Send comments and recommendations concerning any aspect of the information collection to VA's OMB Desk Officer, OMB Human Resources and Housing Branch, New Executive Office Building, Room 10235, Washington, DC 20503 (202) 395-7316. Please refer to “OMB Control No. 2900-New (Pay Now Enter Info Page)” in any correspondence.

SUPPLEMENTARY INFORMATION: Title: Pay Now Enter Info Page.

OMB Control Number: 2900-New (Pay Now Enter Info Page).

Type of Review: New collection.

Abstract: VA is participating in a program of online debt collections in cooperation with the Department of the Treasury's Pay.gov initiative. Claimants who participated in VA's benefit programs and owe debts to VA can voluntary make online payments through VA's Pay Now Enter Info Page Web site. Data enter on the Pay Now Enter Info Page is redirected to the Department of Treasury's Pay.gov Web site allowing claimants to make payments with credit or debit cards, or directly from their bank account. At the conclusion of the transaction, the claimant will receive a confirmation acknowledging the success or failure of the transaction.

An agency may not conduct or sponsor, and a person is not required to respond to a collection of information unless it displays a currently valid OMB control number. The Federal Register Notice with a 60-day comment period soliciting comments on this collection of information was published on January 19, 2005, at page 3104.

Affected Public: Individuals or households.

Estimated Annual Burden: 1,167 hours.

Estimated Average Burden Per Respondent: 15 minutes.

Frequency of Response: Daily.

Estimated Number of Respondents: 7,000.

Dated: April 25, 2005.
By direction of the Secretary:
Loise Russell,
Director, Records Management Service.

[FR Doc. E5-2139 Filed 5-2-05; 8:45 am]

BILLING CODE 8320-01-P